DEPARTMENT OF THE INTERIOR

Bureau of Land Management

[LLNVB0l000. L51100000.GN0000. LVEMF1402780 14X MO: 4500134784]

Notice of Availably of the Final Environmental Impact Statement for the Proposed Gemfield Mine Project, Esmeralda County, NV

AGENCY: Bureau of Land Management, Interior.

ACTION: Notice of availability.

SUMMARY: In compliance with the National Environmental Policy Act of 1969, as amended (NEPA), and the Federal Land Policy and Management Act of 1976, as amended (FLPMA), the Bureau of Land Management (BLM), Tonopah Field Office, has prepared a Final Environmental Impact Statement (EIS) for the Gemfield Mine Project and by this notice is announcing its availability.

DATES: The BLM will not issue a final decision on the proposal for a minimum of 30 days after the date that the Environmental Protection Agency publishes its Notice of Availability in the Federal Register.

ADDRESSES: Copies of the Final EIS for the Gemfield Mine Project and other documents pertinent to this proposal may be examined at the Mount Lewis Field Office, 50 Bastian Road, Battle Mountain, Nevada 89820 or at the Tonopah Field Office, 1553 South Main Street, Tonopah, Nevada 89049. The document is also available for download at https://go.usa.gov/xE8q6.

FOR FURTHER INFORMATION CONTACT: Kevin Hurrell, Project Manager; telephone: 775-635-4000; address: 50 Bastian Road, Battle Mountain, Nevada 89820; or email: blm_nv_bmdo_mlfo_gemfieldeis@blm.gov. Contact Mr. Hurrell to have your name added to BLM's mailing list. Persons who use a telecommunications device for the deaf (TDD) may call the Federal Relay Service (FRS) at 1-800-877-8339 to contact Mr. Hurrell during normal business hours. The FRS is available 24 hours a day, 7 days a week, to leave a message or question. You will receive a reply during normal business hours.

SUPPLEMENTARY INFORMATION: Gemfield Resources, Ltd. (GRL) proposes to construct and operate a conventional open-pit mining operation in the Goldfield Mining District of Esmeralda County, Nevada, as described in the Plan of Operations (Plan) submitted by GRL for the Gemfield Mine Project (Project). The proposed Project is located approximately 30 miles south of Tonopah, Nevada, and approximately 0.5 miles north of the town of Goldfield, Nevada. Goldfield is located approximately 30 miles south of Tonopah and 174 miles northwest of Las Vegas, Nevada.

Approximately 1,935.9 acres of land lies within the Plan boundary, including approximately 1,214.2 acres of BLM-administered land that is managed by the Tonopah Field Office of the Battle Mountain District and 721.7 acres of private land. The proposed Project would result in approximately 1,337.3 acres of surface disturbance, of which 969.4 acres would occur on BLM-administered land and 367.9 acres would occur on private land. If the Project is approved, GRL estimates the mine life would be approximately 12 years.

The Proposed Project includes the construction and operation of a conventional open-pit mining operation to extract and recover gold. The Proposed Project would include the following new components: Open pit; crushing facilities, conveyors, and associated stockpiles; waste rock disposal areas; overburden stockpile; stormwater diversions channels, sediment basins, and berms; heap leach pad, processing facilities, and ponds; water supply and dewatering wells and delivery/storage system; haul and secondary roads; exploration activities; and ancillary facilities including: Power supply; reagent, fuel, and explosives storage; buildings including administration, change house, laboratory, security, warehouse, and parking; water supply and septic systems; maintenance shop; ready line; vehicle wash; communications facilities; plant growth media stockpiles; area for temporary storage of petroleum-contaminated soils; groundwater monitoring wells; water-supply pipelines and facilities, borrow areas; fencing; yards; and stormwater controls and diversion structures.

Proposed right-of-way (ROW) amendments to existing BLM authorizations (relinquishments and amendments to existing authorizations) include the Nevada Department of Transportation (NDOT); AT&T; Esmeralda County; Sierra Pacific Power Company (SPPCo) doing business as NV Energy; and Nevada Hospital Association/SWITCH. Several ROW actions would require amendments to existing FLPMA grants, in accordance with 43 CFR 2800. New ROW actions include issuance of a grant to NDOT; authorizations of an east access road to Esmeralda County, and short-term construction ROWs for SPPCo DBA NV Energy in accordance with 43 CFR 2800 and Title V FLPMA. A Plan of Development that describes these amendments was submitted to the BLM in July 2013 (amended May 2017). These amendments would be necessary to accommodate the development and operation of the proposed Gemfield Mine.

Primary concerns identified in the Final EIS include potential impacts to water management over the life of the project, cultural resources, and land use and realty. The primary issues related to water resources and geochemistry, cultural resources, and land use and realty include: (1) Reduction in groundwater quantity from pit dewatering; (2) Impacts related to the water quality of the post-mining pit lakes; (3) Impacts to cultural resource sites from mine development; and (4) Impacts to land use and realty with the realignments of US Highway 95, utilities, and county roads. In addition to the Proposed Project, three alternatives were analyzed: The Reduced Mine Plan Alternative, the Partial Backfill Alternative, and the No Action Alternative.

The Draft EIS was made available for a 45-day public comment period that ended on April 22, 2019. A public meeting was held on March 28, 2019, in Goldfield, Nevada. A total of 15 comments were received during the public comment period. Responses to comments are included in the Final EIS.

The BLM has utilized and coordinated the NEPA scoping and comment process to help fulfill the public involvement requirements under the National Historic Preservation Act (NHPA) (54 U.S.C. 306108) as provided in 36 CFR 800.2(d)(3), and the agency continues to do so. The information about historical and cultural resources within the area potentially affected by the Proposed Project has assisted the BLM in identifying and evaluating impacts to such resources in the context of both NEPA and the NHPA.

The BLM has consulted and continues to consult with Indian tribes on a government-to-government basis in accordance with Executive Order 13175 and other policies. Tribal concerns, including impacts to Indian trust assets and potential impacts to cultural resources have been analyzed in the Final EIS.

(Authority: 40 CFR 1506.6, 40 CFR 1506.10)

Doug Furtado,
Battle Mountain District Manager.

[FR Doc. 2019-13259 Filed 6-20-19; 8:45 am]

BILLING CODE 4310-HC-P